DEPARTMENT OF COMMERCE

International Trade Administration

[A-583-844]

Narrow Woven Ribbons With Woven Selvedge From Taiwan; Preliminary Determination of No Shipments and Rescission, in Part, of Antidumping Duty Administrative Review; 2015-2016

AGENCY: Enforcement and Compliance, International Trade Administration, Department of Commerce.

SUMMARY: The Department of Commerce (the Department) is conducting an administrative review of the antidumping duty order on narrow woven ribbons with woven selvedge (NWR) from Taiwan. The review covers four producers/exporters of the subject merchandise. The period of review (POR) is September 1, 2015, through August 31, 2016. The Department preliminarily finds that Fujian Rongshu Industry Co., Ltd. (Fujian Rongshu), Roung Shu Industry Corporation (Roung Shu), and Xiamen Yi He Textile Co., Ltd. (Xiamen Yi He) made no shipments of subject merchandise during the POR. Further, we are rescinding the review with respect to Maple Ribbon Co., Ltd. (Maple Ribbon). We invite all interested parties to comment on these preliminary results.

DATES: Effective June 8, 2017.

FOR FURTHER INFORMATION CONTACT: David Crespo, AD/CVD Operations, Office II, Enforcement and Compliance, International Trade Administration, U.S. Department of Commerce, 1401 Constitution Avenue NW., Washington, DC 20230; telephone: (202) 482-3693.

SUPPLEMENTARY INFORMATION:

Background

On September 30, 2016, the Department received a timely request, in accordance with section 751(a) of the Tariff Act of 1930, as amended (the Act), from Berwick Offray LLC and its wholly-owned subsidiary Lion Ribbon Company, LLC (the petitioner) to conduct an administrative review of the sales of Fujian Roungshu, Maple Ribbon, Roung Shu, and Xiamen Yi He.¹ On November 9, 2016, the Department published in the Federal Register a notice of initiation of an administrative review of the antidumping duty order on NWR from Taiwan with respect to these four companies.²

¹ See the Petitioner's Letter, “Petitioner's Request for Administrative Review,” dated September 30, 2016.

² See Initiation of Antidumping and Countervailing Duty Administrative Reviews, 81 FR 78778 (November 9, 2016).

On November 23, 2016, the Department received timely notices from Fujian Roungshu, Roung Shu, and Xiamen Yi He notifying the Department that they that they did not export or sell subject merchandise to the United States during the POR.³

³ See Fujian Roungshu's Letter, “No Shipment Letter,” dated November 23, 2016; Roung Shu's Letter, “Notice of No Sales,” dated November 23, 2016 (Roung Shu No Sales Letter); and Xiamen Yi He's Letter, “No Shipment Letter,” dated November 23, 2016.

On February 2, 2017, the petitioner timely withdrew its request for an administrative review with respect to Maple Ribbon.⁴ In this same month, we confirmed Fujian Roung Shu's and Xiamen Yi He's no shipment claims with the U.S. Customs and Border Protection (CBP). We also attempted to confirm Roung Shu's claim with CBP; however, after review of the CBP data on the record of this case, we requested additional information from CBP related to certain POR entries of merchandise produced by Roung Shu.⁵

⁴ See the Petitioner's Letter, “Petitioner's Withdrawal of Request for Administrative Review of Maple Ribbon,” dated February 2, 2017. We note that the petitioner's withdrawal of this request was submitted within the 90-day period and, thus, is timely.

⁵ See Memorandum, “U.S. Entry Documents Placed on the Record,” dated April 11, 2017, and Kay Kay's submission dated April 16, 2012.

In April 2017, the Department placed these entry documents on the record. In this same month, Roung Shu submitted factual information to clarify that the products covered by these entry documents were not subject to the review.⁶

⁶ See Roung Shu's Letter, “Submission of Factual Information to Rebut, Clarify or Correct Factual Information Placed on the Record of the Proceeding by the Department of Commerce,” dated April 18, 2017, at 3.

During April and May 2017, we requested that Roung Shu provide additional information related to its sales of non-subject ribbon to the United States during the POR.⁷ Roung Shu responded to these requests ⁸ in May 2017. No other interested party commented on these submissions.

⁷ See the Department's Letter, “2015-2016 Administrative Review of the Antidumping Duty Order on Narrow Woven Ribbons with Woven Selvedge from Taiwan,” dated April 18, 2017; and the Department's Letter, “2015-2016 Administrative Review of the Antidumping Duty Order on Narrow Woven Ribbons with Woven Selvedge from Taiwan,” dated May 10, 2017.

⁸ See Roung Shu's Response, “Submission in Response to the Department's Information Request,” dated May 4, 2017 (Roung Shu Response to First Information Request); and Roung Shu's Response, “Submission in Response to the Department's May 10, 2017 Request,” dated May 17, 2017 (Roung Shu Response to Second Information Request).

Scope of the Order

The scope of this order covers narrow woven ribbons with woven selvedge, in any length, but with a width (measured at the narrowest span of the ribbon) less than or equal to 12 centimeters, composed of, in whole or in part, man-made fibers (whether artificial or synthetic, including but not limited to nylon, polyester, rayon, polypropylene, and polyethylene teraphthalate), metal threads and/or metalized yarns, or any combination thereof. Narrow woven ribbons subject to the order may:

• Also include natural or other non-man-made fibers;

• be of any color, style, pattern, or weave construction, including but not limited to single faced satin, double-faced satin, grosgrain, sheer, taffeta, twill, jacquard, or a combination of two or more colors, styles, patterns, and/or weave constructions;

• have been subjected to, or composed of materials that have been subjected to, various treatments, including but not limited to dyeing, printing, foil stamping, embossing, flocking, coating, and/or sizing;

• have embellishments, including but not limited to appliqué, fringes, embroidery, buttons, glitter, sequins, laminates, and/or adhesive backing;

• have wire and/or monofilament in, on, or along the longitudinal edges of the ribbon;

• have ends of any shape or dimension, including but not limited to straight ends that are perpendicular to the longitudinal edges of the ribbon, tapered ends, flared ends or shaped ends, and the ends of such woven ribbons may or may not be hemmed;

• have longitudinal edges that are straight or of any shape, and the longitudinal edges of such woven ribbon may or may not be parallel to each other;

• consist of such ribbons affixed to like ribbon and/or cut-edge woven ribbon, a configuration also known as an “ornamental trimming;”

• be wound on spools; attached to a card; hanked (i.e., coiled or bundled); packaged in boxes, trays or bags; or configured as skeins, balls, bateaus or folds; and/or

• be included within a kit or set such as when packaged with other products, including but not limited to gift bags, gift boxes and/or other types of ribbon.

Narrow woven ribbons subject to the order include all narrow woven fabrics, tapes, and labels that fall within this written description of the scope of this antidumping duty order.

Excluded from the scope of the order are the following:

(1) Formed bows composed of narrow woven ribbons with woven selvedge;

(2) “pull-bows” (i.e., an assemblage of ribbons connected to one another, folded flat and equipped with a means to form such ribbons into the shape of a bow by pulling on a length of material affixed to such assemblage) composed of narrow woven ribbons;

(3) narrow woven ribbons comprised at least 20 percent by weight of elastomeric yarn (i.e., filament yarn, including monofilament, of synthetic textile material, other than textured yarn, which does not break on being extended to three times its original length and which returns, after being extended to twice its original length, within a period of five minutes, to a length not greater than one and a half times its original length as defined in the Harmonized Tariff Schedule of the United States (HTSUS), Section XI, Note 13) or rubber thread;

(4) narrow woven ribbons of a kind used for the manufacture of typewriter or printer ribbons;

(5) narrow woven labels and apparel tapes, cut-to-length or cut-to-shape, having a length (when measured across the longest edge-to-edge span) not exceeding eight centimeters;

(6) narrow woven ribbons with woven selvedge attached to and forming the handle of a gift bag;

(7) cut-edge narrow woven ribbons formed by cutting broad woven fabric into strips of ribbon, with or without treatments to prevent the longitudinal edges of the ribbon from fraying (such as by merrowing, lamination, sono-bonding, fusing, gumming or waxing), and with or without wire running lengthwise along the longitudinal edges of the ribbon;

(8) narrow woven ribbons comprised at least 85 percent by weight of threads having a denier of 225 or higher;

(9) narrow woven ribbons constructed from pile fabrics (i.e., fabrics with a surface effect formed by tufts or loops of yarn that stand up from the body of the fabric);

(10) narrow woven ribbon affixed (including by tying) as a decorative detail to non-subject merchandise, such as a gift bag, gift box, gift tin, greeting card or plush toy, or affixed (including by tying) as a decorative detail to packaging containing non-subject merchandise;

(11) narrow woven ribbon that is (a) affixed to non-subject merchandise as a working component of such non-subject merchandise, such as where narrow woven ribbon comprises an apparel trimming, book marker, bag cinch, or part of an identity card holder, or (b) affixed (including by tying) to non-subject merchandise as a working component that holds or packages such non-subject merchandise or attaches packaging or labeling to such non-subject merchandise, such as a “belly band” around a pair of pajamas, a pair of socks or a blanket;

(12) narrow woven ribbon(s) comprising a belt attached to and imported with an item of wearing apparel, whether or not such belt is removable from such item of wearing apparel; and

(13) narrow woven ribbon(s) included with non-subject merchandise in kits, such as a holiday ornament craft kit or a scrapbook kit, in which the individual lengths of narrow woven ribbon(s) included in the kit are each no greater than eight inches, the aggregate amount of narrow woven ribbon(s) included in the kit does not exceed 48 linear inches, none of the narrow woven ribbon(s) included in the kit is on a spool, and the narrow woven ribbon(s) is only one of multiple items included in the kit.

The merchandise subject to this order is classifiable under the HTSUS statistical categories 5806.32.1020; 5806.32.1030; 5806.32.1050; and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. The HTSUS statistical categories and subheadings are provided for convenience and customs purposes; however, the written description of the merchandise covered by this order is dispositive.

Preliminary Determination of No Shipments

On November 23, 2016, Fujian Roungshu, Roung Shu, and Xiamen Yi He timely filed statements reporting that they did not export or sell subject merchandise to the United States during the POR.⁹ Additionally, our inquiry to CBP did not identify any reviewable POR entries of subject merchandise from Fujian Rongshu or Xiamen Yi He. Based on the foregoing, the Department preliminarily determines that Fujian Roungshu and Xiamen Yi He did not have any reviewable transactions during the POR. Consistent with our practice, we are not preliminarily rescinding the review with respect to Fujian Roungshu and Xiamen Yi He, but, rather, we will complete the review with respect to these companies and issue appropriate instructions to CBP based on the final results of this review.¹⁰

⁹ In its statement of no shipments, Roung Shu informed the Department that certain shipments made in the previous review (i.e., the POR covering September 1, 2014, through August 31, 2015) may have entered the United States during the current POR. However, Roung Shu stated that it reported those shipments in the prior review. See Roung Shu No Sales Letter, at 1-2.

¹⁰ See e.g., Certain Frozen Warmwater Shrimp From Thailand; Preliminary Results of Antidumping Duty Administrative Review, Partial Rescission of Review, Preliminary Determination of No Shipments; 2012-2013, 79 FR 15951, 15952 (March 24, 2014), unchanged in Certain Frozen Warmwater Shrimp From Thailand: Final Results of Antidumping Duty Administrative Review, Final Determination of No Shipments, and Partial Rescission of Review; 2012-2013, 79 FR at 51306 (August 28, 2014).

With respect to Roung Shu, as noted in the “Background” section above, we also examined U.S. entry data provided by CBP for POR entries of merchandise produced by Roung Shu. Based on a review of these data, as well as of Roung Shu's responses to two information requests related to them,¹¹ we also preliminarily determine that Roung Shu had no reviewable transactions during the POR. Therefore, consistent with our practice, we will complete the review with respect to Roung Shu as well, and issue appropriate instructions to CBP based on the final results of this review.

¹¹ See Roung Shu's Response to First Information Request; and Roung Shu's Response to Second Information Request. In these submissions, Roung Shu provided documentation to demonstrate that it only exported either non-subject ribbon, or subject ribbon, which was already included in the prior administrative review.

Rescission of Review, in Part

Pursuant to 19 CFR 351.213(d)(1), the Department will rescind an administrative review, in whole or in part, if a party that requested the review withdraws the request within 90 days of the date of publication of notice of initiation of the requested review. The petitioner's withdrawal of its request with respect to Maple Ribbon was submitted within the 90-day period and, thus, is timely. Because the petitioner's withdrawal of its request with respect to Maple Ribbon for an antidumping duty administrative review is timely, and because no other party requested a review of this company, in accordance with 19 CFR 351.213(d)(1), we are rescinding this administrative review, in part, with respect to Maple Ribbon.

Verification

As provided in section 782(i) of the Act, we intend to verify information relied upon in making our final results.¹²

¹² We note that the petitioner requested verification of Roung Shu. See the Petitioner's Letter, “Narrow Woven Ribbons with Woven Selvedge from Taiwan/Request For Verification,” dated February 16, 2017.

Disclosure and Public Comment

Case briefs or other written comments may be submitted to the Assistant Secretary for Enforcement and Compliance no later than seven days after the date on which the last verification report is issued in this review. Rebuttal briefs, limited to issues raised in case briefs, may be submitted no later than five days after the deadline date for case briefs.¹³ Pursuant to 19 CFR 351.309(c)(2) and (d)(2), parties who submit case briefs or rebuttal briefs in this review are encouraged to submit with each argument: (1) A statement of the issue; (2) a brief summary of the argument; and (3) a table of authorities.

¹³ See 19 CFR 351.309; see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, the Department intends to hold the hearing at the U.S. Department of Commerce, 1401 Constitution Avenue NW., Washington, DC 20230, at a time and date to be determined. Parties should confirm by telephone the date, time, and location of the hearing two days before the scheduled date.

The Department intends to issue the final results of this administrative review, including the results of its analysis of the issues raised in any written briefs, no later than 120 days after the date of publication of this notice, pursuant to section 751(a)(3)(A) of the Act and 19 CFR 351.213(h), unless this deadline is extended.

Assessment Rates

With respect to Maple Ribbon, the Department will direct CBP to assess antidumping duties at the cash deposit rate in effect on the date of entry for entries during the period September 1, 2015, through August 31, 2016. We intend to issue liquidation instructions to CBP 15 days after publication of this final rescission notice.

With respect to the remaining companies covered by the review, upon issuance of the final results, the Department shall determine, and CBP shall assess, antidumping duties on all appropriate entries covered by this review.¹⁴ The final results of this review shall be the basis for the assessment of antidumping duties on entries of merchandise covered by the final results of this review.¹⁵

¹⁴ See 19 CFR 351.212(b)(1).

¹⁵ See section 751(a)(2)(C) of the Act.

Consistent with the Department's refinement of its assessment practice, if we continue to find in the final results that Fujian Rongshu, Roung Shu, and Xiamen Yi He had no shipments of subject merchandise during the POR, we will instruct CBP to liquidate any suspended entries at the all-others rate if there is no rate for the intermediate companies involved in the transaction.¹⁶

¹⁶ For a full discussion of this clarification, see Antidumping and Countervailing Duty Proceedings: Assessment of Antidumping Duties, 68 FR 23954 (May 6, 2003).

We intend to issue liquidation instructions for Fujian Roungshu, Roung Shu, and Xiamen Yi He to CBP 15 days after publication of the final results of this review.

Notification to Importers

This notice also serves as a preliminary reminder to importers of their responsibility under 19 CFR 351.402(f)(2) to file a certificate regarding the reimbursement of antidumping duties prior to liquidation of the relevant entries during this POR. Failure to comply with this requirement could result in the Department's presumption that reimbursement of antidumping duties occurred and the subsequent assessment of doubled antidumping duties.

Notification to Interested Parties

We are issuing and publishing these results in accordance with sections 751(a)(1) and 777(i)(1) of the Act.

Dated: June 1, 2017.
Ronald K. Lorentzen,
Acting Assistant Secretary for Enforcement and Compliance.

[FR Doc. 2017-11915 Filed 6-7-17; 8:45 a.m.]

BILLING CODE 3510-DS-P